DEPARTMENT OF HEALTH AND HUMAN SERVICES

Administration for Children and Families

Submission for OMB Review; Comment Request

Title: Evaluation of Child Care Subsidy Strategies.

OMB No.: New Collection.

Description: To conduct three experiments to test aspects of the child care subsidy system. One of these experiments will occur in Cook County, Illinois; one will occur in Washington State; and one will occur in Massachusetts.

Illinois. The State of Illinois has agreed to conduct an experiment in Cook County to test the impact of receiving a child care subsidy on parental employment and income and on the stability of child care arrangements. For the experiment, families with incomes above the current income eligibility ceiling who apply or reapply for subsidies will be approved to receive subsidies. In addition, the experiment will test the effects of a longer certification period by certifying eligibility for some families in the treatment group for six months and other families for one year. Families in the treatment group will retain eligibility for subsidies over the two-year study period, provided their income remains below the experimental limit, they reapply when their certification ends, and they comply with other requirements (e.g., continue to work). Outcomes will be measured through administrative records and periodic interviews with parents.

Washington. In Washington State, the study will test a co-payment schedule that smoothes out the currently abrupt increases in co-payments that occur when a family moves from one income category to the next and reduces the co-payment burden for many families. Families that apply (or reapply) for subsidies and are determined to be eligible under current rules will be randomly assigned to the experimental co-payment schedule or the existing schedule. (Families with co-payments from the experimental schedule will either pay the same amount, or less, than families whose co-payments are calculated using the existing schedule.) Families will retain the same co-payment schedule for two years, provided they continue to be eligible for subsidies. Outcomes will be measured through analysis of administrative data and periodic interviews with parents.

Massachusetts. In Massachusetts, the study is an experimental test of the effectiveness of a developmental curriculum implemented in family child care homes. Family child care providers who serve subsidized and other low-income children and are linked to family child care networks will be randomly assigned to a treatment or control group. Providers in the treatment group will use the developmental curriculum and be trained through regular visits to the home by specially trained mentors. These providers will receive materials to use with children from 0 to 5 years of age. Providers in the control group will receive the more general technical assistance and support visits that they currently receive. Impacts on provider behavior and the home environment will be measured through direct observations in the homes. Child assessments will be conducted through provider reports for the younger children and through standardized tests for children 30 months and older.

Respondents

Illinois. Parents who apply (or reapply) for subsidies and are eligible and agree to be in the study will be interviewed by telephone up to three times in the 24 months after they enter the study.

Washington State. Parents who apply (or reapply) for subsidies and are eligible and agree to be in the study will be interviewed by telephone up to three times over the 24 months of the study. Approximately 30 State employees working at the Department of Health and Human Services in the Division of Child Care and Early Learning or the Division of Community Service will be interviewed as part of the implementation study.

Massachusetts. Children will be assessed 7 months after implementing the curriculum, after 11 months, and after 23 months. Providers will be asked to respond to a brief survey 7 and 23 months after the study begins. Home visitors, who support providers in the treatment and control groups, will be asked to respond to a brief interview at 23 months.

Annual Burden Estimates
Instrument | Number of respondents | Number of responses per respondent | Average burden hours per response | Total burden hours
Illinois parent survey | 2,000 | 1.5 | .58 | 1,740
Washington parent survey | 2,000 | 1.5 | .58 | 1,740
Washington process study interview | 30 | .5 | .5 | 8
Massachusetts child assessments | 700 | 1.5 | .5 | 525
Massachusetts provider interview | 350 | 1 | .16 | 56
Massachusetts home visitor interview | 32 | .5 | .16 | 3

Estimated Total Annual Burden Hours: 4,072.

Additional Information

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T._Astrich@omb.eop.gov.

Dated: March 20, 2006.
Robert Sargis,
Reports Clearance Officer.

[FR Doc. 06-2867 Filed 3-23-06; 8:45 am]

BILLING CODE 4184-01-M